DEPARTMENT OF TRANSPORTATION

Federal Aviation Administration

14 CFR Part 71

[Docket No. FAA-2006-25762; Airspace Docket No. 06-AAL-25]

Revision of Class E Airspace; Homer, AK

AGENCY: Federal Aviation Administration (FAA), DOT.

ACTION: Final rule.

SUMMARY: This action revises Class E airspace at Homer, AK to provide adequate controlled airspace to contain aircraft executing four new Standard Instrument Approach Procedures (SIAPs). This rule results in the revision of Class E airspace upward from the surface, from 700 feet (ft.), and from 1,200 ft. above the surface at Homer, AK.

DATES: Effective Date: 0901 UTC, March 15, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Thursday, October 5, 2006, the FAA proposed to amend part 71 of the Federal Aviation Regulations (14 CFR part 71) to revise Class E airspace upward from 700 ft. and 1,200 ft. above the surface at Homer, AK (71 FR 58758). The action was proposed in order to create Class E airspace sufficient in size to contain aircraft while executing four new SIAPs for the Homer Airport. The new approaches are (1) Area Navigation (Global Positioning System) (RNAV (GPS)) Z Runway (RWY) 03, Original (2) RNAV (GPS) Z RWY 21, Original (3) RNAV (GPS) Y RWY 03, Original and (4) RNAV (GPS) Y RWY 21, Original. Class E controlled airspace extending upward from the surface, from 700 ft., and from 1,200 ft. above the surface in the Homer Airport area is revised by this action. The Notice of Proposed Rulemaking did not mention in the Proposal section the fact that some of the airspace affected by this action is from the surface. However, the proposed rule included the actual text entry. The actual change to the existing surface area is administrative in nature and has negligible effect, if any, on the actual airspace footprint.

Interested parties were invited to participate in this rulemaking proceeding by submitting written comments on the proposal to the FAA. No public comments have been received; thus the rule is adopted as proposed.

The area will be depicted on aeronautical charts for pilot reference. The coordinates for this airspace docket are based on North American Datum 83. The class E airspace areas designated as surface areas are published in paragraph 6002 of FAA Order 7400.9P, Airspace Designations and Reporting Points, dated September 1, 2006, and effective September 15, 2006, which is incorported by reference in 14 CFR 71.1. The Class E airspace areas designated as 700/1,200 ft. transition areas are published in paragraph 6005 of FAA Order 7400.9P, Airspace Designations and Reporting Points, dated September 1, 2006, and effective September 15, 2006, which is incorporated by reference in 14 CFR 71.1. The Class E airspace designations listed in this document will be published subsequently in the Order.

The Rule

This amendment to 14 CFR part 71 revises Class E airspace at the Homer Airport, Alaska. This Class E airspace is revised to accommodate aircraft executing four new SIAPs, and will be depicted on aeronautical charts for pilot reference. The intended effect of this rule is to provide adequate controlled airspace for IFR operations at the Homer Airport, Homer, Alaska.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Homer Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

* * * * *

Paragraph 6002 Class E Airspace Designated As Surface Areas

AAL AK E2 Homer, AK [Revised]

Homer Airport, AK

(Lat. 59°38″44′ N., long. 151°28″36′ W.)

Kachemak NDB

(Lat. 59°38″29′ N., long. 151°30″01′ W.)

Within a 4.2-mile radius of the Homer Airport, AK, and within 1.9 miles either side of the 055° bearing from the Homer Airport, AK, to 7.2-miles northeast of the Homer Airport, AK, and within 2.4-miles north and 4.2-miles south of the Kachemak NDB 235° radial extending from the Kachemak NDB to 8.3-miles southwest of the Kachemak NDB. This Class E airspace area is effective during the specific dates and times established in advance by a Notice to Airmen. The effective date and time will thereafter be continuously published in the Supplement Alaska (Airport/Facility Directory).

Paragraph 6005 Class E Airspace Extending Upward From 700 Feet or More Above the Surface of the Earth

* * * * *

AAL AK E5 Homer, AK [Revised]

Homer Airport, AK

(Lat. 59°38″44′ N., long. 151°28″36′ W.)

Kachemak NDB

(Lat. 59°38″29′ N., long. 151°30″01′ W.)

That airspace extending upward from 700 feet above the surface within a 6.7-mile radius of the Homer Airport, AK, and within 4 miles either side of the 055° bearing from the Homer Airport, AK, to 12-miles northeast of the Homer Airport, AK, and within 8-miles north and 4.2-miles south of the Kachemak NDB 235° bearing extending from the Kachemak NDB to 16 miles southwest of the Kachemak NDB; and that airspace extending upward from 1,200 feet above the surface within a 73-mile radius of the Homer Airport, AK.

* * * * *

Issued in Anchorage, AK, on December 8, 2006.
Anthony M. Wylie,
Manager, Alaska Flight Service Information Office.

[FR Doc. E6-21534 Filed 12-18-06; 8:45 am]

BILLING CODE 4910-13-P